DEPARTMENT OF COMMERCE

International Trade Administration

[A-570-865]

Certain Hot-Rolled Carbon Steel Flat Products From the People's Republic of China: Preliminary Results of Antidumping Duty Administrative Review; 2012-2013

AGENCY: Enforcement and Compliance, International Trade Administration, Department of Commerce.

SUMMARY: The Department of Commerce (“Department”) is conducting an administrative review of the antidumping duty order on certain hot-rolled carbon steel flat products (“hot-rolled steel”) from the People's Republic of China (“PRC”), covering the period of review (“POR”) November 1, 2012 through October 31, 2013. The Department preliminarily determines that Baosteel Group Corporation, Shanghai Baosteel International Economic & Trading Co., Ltd., and Baoshan Iron and Steel Co., Ltd. (collectively, “Baosteel”) had no shipments of subject merchandise to the United States during the POR.

DATES: Effective Date: July 30, 2014.

FOR FURTHER INFORMATION CONTACT: Steven Hampton, AD/CVD Operations, Office V, Enforcement and Compliance, International Trade Administration, U.S. Department of Commerce, 14th Street and Constitution Avenue NW., Washington DC 20230; telephone (202) 482-0116.

SUPPLEMENTARY INFORMATION:

Background

The Department is conducting an administrative review of the antidumping duty order on hot-rolled steel from the PRC pursuant to section 751(a)(1) of the Tariff Act of 1930, as amended (“Act”). On November 29, 2001, the Department published in the Federal Register an antidumping duty order on hot-rolled steel from the PRC.¹ On November 27, 2013, and December 2, 2013, Nucor Corporation (“Nucor”) and United States Steel Corporation (“U.S. Steel”), respectively, submitted requests for an administrative review of Baosteel.² On December 30, 2013, pursuant to the requests from Nucor and U.S. Steel, the Department published a notice of initiation of an administrative review of the antidumping duty order on hot-rolled steel from the PRC covering the period November 1, 2012, to October 31, 2013, for one company, Baosteel.³ On January 27, 2013, in response to the Department's Initiation Notice, Baosteel certified that it had no sales of subject merchandise during the POR.⁴

¹ See Notice of Antidumping Duty Order: Certain Hot-Rolled Carbon Steel Flat Products from the People's Republic of China, 66 FR 59561 (November 29, 2001).

² See Certain Hot-Rolled Carbon Steel Flat Products from the People's Republic of China: Request for Administrative Review, dated November 27, 2013, and Hot-Rolled Carbon Steel Flat Products from the People's Republic of China: Request for Administrative Review, dated December 2, 2013.

³ See Initiation of Antidumping and Countervailing Duty Administrative Reviews and Request for Revocation in Part, 78 FR 79392 (December 30, 2013) (“Initiation Notice”).

⁴ See Letter from Baosteel regarding Certain Hot-Rolled Carbon Steel Flat Products from the People's Republic of China Certification of No Sales, dated January 27, 2013 (“Baosteel No Sales Certification”).

Scope of the Order

The products covered by the order are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. The merchandise subject to the order is classified in the Harmonized Tariff Schedule of the United States (“HTSUS”) at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by the order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and customs purposes, the written description of the merchandise subject to the order is dispositive.⁵

⁵ For a complete description of the scope of the subject antidumping duty order, see Memorandum to Paul Piquado, Assistant Secretary for Enforcement and Compliance, from Christian Marsh, Deputy Assistant Secretary for Antidumping and Countervailing Duty Operations, entitled “Decision Memorandum for Preliminary Results of 2012-2013 Antidumping Duty Administrative Review: Certain Hot-Rolled Carbon Steel Flat Products from the People's Republic of China” (“Preliminary Decision Memorandum”), dated concurrently with these results and hereby adopted by this notice.

Methodology

For a full description of the methodology underlying our conclusion, please see the Preliminary Decision Memorandum. The Preliminary Decision Memorandum is a public document and is on file electronically via Enforcement and Compliance's Antidumping and Countervailing Duty Centralized Electronic Service System (“IA ACCESS”). IA ACCESS is available to registered users at http://iaaccess.trade.gov and in the Central Records Unit, room 7046 of the main Department of Commerce building. In addition, a complete version of the Preliminary Decision Memorandum can be accessed directly on the Internet at http://enforcement.trade.gov/frn/. The signed Preliminary Decision Memorandum and the electronic versions of the Preliminary Decision Memorandum are identical in content.

Preliminary Determination of No Shipments

As noted in the “Background” section above, Baosteel has submitted a timely-filed certification indicating that it had no sales of subject merchandise to the United States during the POR.⁶ Based on the certification of Baosteel and our analysis of U.S. Customs & Border Protection (“CBP”) information, the Department preliminarily determines that Baosteel did not have any reviewable transactions during the POR. In addition, consistent with the Department's refinement to its assessment practice in non-market economy (“NME”) cases, the Department finds that it is appropriate not to rescind the review in these circumstances but rather, to complete the review with respect to Baosteel and issue appropriate instructions to CBP based on the final results of the review.⁷

⁶ See Baosteel No Sales Certification.

⁷ See Non-Market Economy Antidumping Proceedings: Assessment of Antidumping Duties, 76 FR 65694, 65694-95 (October 24, 2011) (“Assessment Practice Refinement”) and the “Assessment Rates” section below.

Disclosure and Public Comment

Pursuant to 19 CFR 351.309(c), interested parties may submit cases briefs no later than 30 days after the date of publication of this notice. Rebuttal briefs, limited to issues raised in the case briefs, may be filed not later than five days after the date for filing case briefs.⁸ Parties who submit case briefs or rebuttal briefs in this proceeding are encouraged to submit with each argument: (1) A statement of the issue; (2) a brief summary of the argument; and (3) a table of authorities.⁹ Case and rebuttal briefs should be filed electronically via Enforcement and Compliance's Antidumping and Countervailing Duty Centralized Electronic Service System (“IA ACCESS”).¹⁰

⁸ See 19 CFR 351.309(d).

⁹ See 19 CFR 351.309(c)(2) and (d)(2).

¹⁰ See 19 CFR 351.303.

Pursuant to 19 CFR 351.310(c), interested parties who wish to request a hearing, or to participate if one is requested, must submit a written request to the Assistant Secretary for Enforcement and Compliance, filed electronically via IA ACCESS. An electronically filed document must be received successfully in its entirety by the Department's electronic records system, IA ACCESS, by 5 p.m. Eastern Standard Time within 30 days after the date of publication of this notice.¹¹ Requests should contain: (1) The party's name, address and telephone number; (2) the number of participants; and (3) a list of issues to be discussed. Issues raised in the hearing will be limited to those raised in the respective case and rebuttal briefs.

¹¹ See 19 CFR 351.310(c).

The Department will issue the final results of this administrative review, including the results of its analysis of the issues raised in any written briefs, not later than 120 days after the date of publication of this notice, pursuant to section 751(a)(3)(A) of the Act.

Assessment Rates

Upon issuance of the final results, the Department will determine, and CBP shall assess, antidumping duties on all appropriate entries. The Department intends to issue assessment instructions to CBP 15 days after the date of publication of the final results of review. Pursuant to the refinement to its assessment practice in NME cases, if the Department continues to determine that an exporter under review had no shipments of subject merchandise, any suspended entries that entered under that exporter's case number (i.e., at that exporter's rate) will be liquidated at the PRC-wide rate.¹²

¹² For a full discussion of this practice, see Assessment Practice Refinement, 76 FR at 65694-95.

Cash Deposit Requirements

The following cash deposit requirements will be effective upon publication of the final results of this administrative review for all shipments of the subject merchandise from the PRC entered, or withdrawn from warehouse, for consumption on or after the publication date, as provided by section 751(a)(2)(C) of the Act: (1) For Baosteel, which claimed no shipments, the cash deposit rate will remain unchanged from the rate assigned to the company in the most recently completed review of the company; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 90.83 percent; and (4) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

The Department is issuing and publishing these results in accordance with sections 751(a)(1) and 777(i)(1) of the Act.

July 23, 2014.
Paul Piquado,
Assistant Secretary for Enforcement and Compliance.

[FR Doc. 2014-17974 Filed 7-29-14; 8:45 am]

BILLING CODE 3510-DS-P